DEPARTMENT OF AGRICULTURE

Forest Service

Federal Lands Recreation Enhancement Act, (Title VIII, Pub. L. 108-447)

AGENCY: Boise and Sawtooth National Forests, USDA Forest Service.

ACTION: Notice of public meeting.

SUMMARY: In accordance with the Federal Land Policy and Management Act (FLPMA), the Federal Advisory Committee Act of 1972 (FACA), and the Federal Lands Recreation Enhancement Act (REA), the U.S. Department of the Interior, Bureau of Land Management (BLM) Boise and Twin Falls District Recreation Resource Advisory Council (Rec-RAC) Subcommittee, will hold a meeting as indicated below.

DATES: The meeting will be held February 5, 2009, beginning at 10 a.m. and adjourning at 4:30 p.m. The meeting location is the Boise District BLM Offices, 3948 South Development Avenue, Boise, Idaho. Public comment periods will be held before the conclusion of the meeting.

FOR FURTHER INFORMATION CONTACT: MJ Byrne, Public Affairs Officer and RAC Coordinator, BLM Boise District, 3948 Development Avenue, Boise, ID 83705, Telephone 208-384-3393, or Heather Tiel-Nelson, Public Affairs Officer, Twin Falls District, 2536 Kimberly Road, Twin Falls, ID 83301, 208-735-2063.

SUPPLEMENTARY INFORMATION: In accordance with section 4 of the Federal Lands Recreation Enhancement Act of 2005 (Title VII, Pub. L. 108-447), a subcommittee has been established to provide advice to the Secretary of Agriculture, through the Forest Service and the Secretary of the Interior, through the BLM, in the form of recommendations relating to public concerns regarding the implementation, elimination, or expansion of an amenity recreation fee; or the recreation fee program on public lands under the jurisdiction of the Forest Service and/or the BLM in both the Boise and Twin Falls Districts located in southern Idaho. Items on the agenda include review and discussion of information mailed by representatives of the Boise and Sawtooth National Forests to the subcommittee members about proposals to establish nine new fee sites on the Sawtooth National Forest and one new fee site on the Boise National Forest, and to increase existing fees at six recreation sites on the Sawtooth National Forest. Recommendations of the Rec-RAC subcommittee relative to approval or rejection of these fee proposals will be brought before the two full RACs meeting jointly on a future date to be set at this Rec-RAC subcommittee meeting. Agenda items and location may change due to changing circumstances. All meetings are open to the public. The public may present written comments to the subcommittee. Each formal subcommittee meeting will also have time allocated for hearing public comments. Depending on the number of persons wishing to comment and time available, the time for individual oral comments may be limited. Individuals who plan to attend and need special assistance, such as sign language interpretation, tour transportation, or other reasonable accommodations, should contact the BLM coordinators as provided above.

Cecilia R. Seesholtz,
Forest Supervisor.

[FR Doc. E9-724 Filed 1-16-09; 8:45 am]

BILLING CODE 3410-11-M